DEPARTMENT OF TRANSPORTATION

Pipeline and Hazardous Materials Safety Administration

49 CFR Parts 105, 106, 107, 110, 171, 172, 173, 176, 177, 178, 179 and 180

[Docket No. PHMSA-2005-22071 (HM-189Y)]

RIN 2137-AE08

Hazardous Materials Regulations: Minor Editorial Corrections and Clarifications

AGENCY: Pipeline and Hazardous Materials Safety Administration (PHMSA), DOT.

ACTION: Final rule.

SUMMARY: This final rule corrects editorial errors, makes minor regulatory changes and, in response to requests for clarification, improves the clarity of certain provisions in the Hazardous Materials Regulations (HMR). In addition, this final rule revises references to the former Research and Special Programs Administration to reflect the creation of Pipeline and Hazardous Materials Safety Administration. The intended effect of this rule is to enhance the accuracy, and reduce misunderstandings of the regulations. The amendments contained in this rule are minor changes and do not impose new requirements.

DATES: Effective date: September 28, 2005.

FOR FURTHER INFORMATION CONTACT: Kurt Eichenlaub, Office of Hazardous Materials Standards, (202) 366-8553, Pipeline and Hazardous Materials Safety Administration, U.S. Department of Transportation, 400 Seventh Street, SW., Washington, DC 20590-0001.

I. Background

The Norman Y. Mineta Research and Special Programs Improvement Act of 2004 reorganized the Department of Transportation's pipeline and hazardous materials safety programs that were formerly a part of the Research and Special Programs Administration (RSPA). The Act created the Pipeline and Hazardous Materials Safety Administration (PHMSA, we), a separate operating administration. PHMSA annually reviews the Hazardous Materials Regulations (HMR; 49 CFR parts 171-180) to identify errors that may confuse readers. In this final rule, we revise all references to RSPA to reflect the creation of PHMSA. This final rule also corrects the following inaccuracies: typographical and printing errors; incorrect references to regulations in the CFR; inaccurate office names, routing symbols, and e-mail addresses; inconsistent use of terminology; and misstatements of certain regulatory requirements.

Because these amendments do not impose new requirements, notice and public procedure are unnecessary. By making these amendments effective without the customary 30-day delay following publication, the changes will appear in the next revision of 49 CFR.

The following is a summary by section of the changes made in this final rule. It does not discuss all minor editorial corrections (e.g., punctuation errors), and certain other minor adjustments to enhance the clarity of the HMR (e.g., corrections to office names, routing symbols and e-mail addresses).

II. Section-by-Section Review

Part 107

Appendix A to Subpart D of Part 107: In Appendix A to Subpart D of Part 107, in section IV, paragraph C, we are revising the reference to “49 U.S.C. 5213(a)” to read “49 U.S.C. 5123(a)”.

Part 171

Section 171.6. In paragraph (b)(2), the table of OMB control numbers is revised to reflect current control numbers, report titles, and affected sections for collections of information.

Section 171.8. In the definition for “Maximum Allowable Working Pressure or MAWP,” we are correcting the reference “178.320(c)” to read “§ 178.320(a)”.

Section 171.11. In paragraph (d)(6)(iv), we are amending the text by removing “radioactive material” and adding “limited quantities of radioactive material” in its place.

Part 172

Section 172.101. The Hazardous Materials Table (HMT). We are correcting entries in the HMT as follows:

• The entry “Adhesives, containing a flammable liquid,” UN1133, PG I, II and III is revised by correcting the Column (2) Hazardous materials description and proper shipping name to read “Adhesives, containing a flammable liquid.” In addition, for the Packing Group II entry, in the Column (10A) Vessel stowage “location,” the entry “A” is revised to read “B”. The correction appears as a “Remove/Add” in this rulemaking.

• The entry “Aerosols, corrosive, Packing Group II or III, (each not exceeding 1 L capacity),” UN1950 is revised by correcting the Column (2) Hazardous materials description and proper shipping name to read “Aerosols, corrosive, Packing Group II or III, (each not exceeding 1 L capacity).” The correction appears as a “Remove/Add” in this rulemaking.

• The entry “Aerosols, flammable, (each not exceeding 1 L capacity),” UN1950 is revised by correcting the Column (2) Hazardous materials description and proper shipping name to read “Aerosols, flammable, (each not exceeding 1 L capacity).” The correction appears as a “Remove/Add” in this rulemaking.

• The entry “Aerosols, flammable, n.o.s. (engine starting fluid) (each not exceeding 1 L capacity),” UN1950 is revised by correcting the Column (2) Hazardous materials description and proper shipping name to read “Aerosols, flammable, n.o.s. (engine starting fluid) (each not exceeding 1 L capacity).” The correction appears as a “Remove/Add” in this rulemaking.

• The entry “Aerosols, non-flammable, (each not exceeding 1 L capacity),” UN1950 is revised by correcting the Column (2) Hazardous materials description and proper shipping name to read “Aerosols, non-flammable, (each not exceeding 1 L capacity).” The correction appears as a “Remove/Add” in this rulemaking.

• The entry “Aerosols, poison, each not exceeding 1 L capacity,” UN1950 is revised by correcting the Column (2) Hazardous materials description and proper shipping name to read “Aerosols, poison, each not exceeding 1 L capacity.” The correction appears as a “Remove/Add” in this rulemaking.

• The entry “Alkaloids, solid, n.o.s. or Alkaloid salts, solid, n.o.s. poisonous,” UN1544 is revised by correcting the Column (2) Hazardous materials description and proper shipping name to read “Alkaloids, solid, n.o.s. or Alkaloid salts, solid, n.o.s. poisonous.” In addition, for the Packing Group II entry, the Column (7) Special provision entry “1P4” is revised to read “IP4.” The correction appears as a “Remove/Add” in this rulemaking.

• The entry “Aluminum alkyl halides, solid,” UN3461 is revised by correcting the Column (6) Label Codes entry “4.23” to read “4.3”.

• The entry “Ammonium nitrate emulsion or Ammonium nitrate suspension or Ammonium nitrate gel, intermediate for blasting explosives,” UN3375 is revised by correcting the Column (10B) Vessel stowage “Other” entry “60, 66, 124” to read “48, 59, 60, 66, 124”.

• The entry “Cartridges, safety, see Cartridges for weapons, other than blank or Cartridges, power device (UN 0323)” is revised by correcting the Column (2) Hazardous materials description and proper shipping name to read “Cartridges, safety, see Cartridges for weapons, inert projectile, or Cartridges, small arms or Cartridges, power device (UN 0323).” The correction appears as a “Remove/Add” in this rulemaking.

• The entry “Cartridges, sporting, see Cartridges for weapons, other than blank” is revised by correcting the Column (2) Hazardous materials description and proper shipping name to read “Cartridges, sporting, see Cartridges for weapons, inert projectile, or Cartridges, small arms.” The correction appears as a “Remove/Add” in this rulemaking.

• The entry “Chlorate and magnesium chloride mixture, solid,” UN1459, Packing Group III is removed. This entry was inadvertently printed twice in the HMT.

• The entry “Chlorate of potash, see Potassium chlorate,” is removed and added back. The correction appears as a “Remove/Add” in this rulemaking. This was done to assist the Federal Register in locating the correct “Chlorate and magnesium chloride mixture, solid,” UN1459, Packing Group III entry for removal. (see above)

• The entry “Chloroacetophenone, CN, liquid,” UN3416 is revised by correcting the Column (2) Hazardous materials description and proper shipping name to read “Chloroacetophenone, liquid, (CN).” In addition, the Column (7) Special provisions entry is corrected to read “A3, IB2, N12, N32, N33, T7, TP2, TP13.” The correction appears as a “Remove/Add” in this rulemaking.

• The entry “Chloroacetophenone, CN, solid,” UN1697 is revised by correcting the Column (2) Hazardous materials description and proper shipping name to read “Chloroacetophenone, solid, (CN).” In addition, the Column (7) Special provisions entry is corrected to read “A3, IB8, IP2, IP4, N12, N32, N33, N34, T3, TP2, TP13, TP33.” The correction appears a “Remove/Add” in this rulemaking.

• The entry “Cyclotrimethylenenitramine and octogen, mixtures, wetted or desensitized see RDX and HMX mixtures, wetted or desensitized etc.” is added to the HMT. This entry was inadvertently removed under Docket HM-215G (70 FR 34381).

• The entry “Denatured Alcohol,” NA1987 is revised by correcting Column (7) to remove obsolete special provisions “T 31” and “T 30.”

• The entry “Etching acid, liquid, n.o.s., see Hydrofluoric acid, solution etc.” is revised by correcting the Column (2) Hazardous materials description and proper shipping name to read “Etching acid, liquid, n.o.s., see Hydrofluoric acid, etc.” The correction appears as a “Remove/Add” in this rulemaking.

• The entry “Fissile radioactive materials, see Radioactive material, fissile, n.o.s.” is removed.

• The entry “Gasoline,” UN1203 is revised by correcting Column (7) Special provisions entries “144, B33, T8” to read “144, B1, B33, T8.”

• The entry “Hydrogen iodid solution, see Hydriodic acid,” is revised by correcting the Column (2) Hazardous materials description and proper shipping name to read “Hydrogen iodide solution, see Hydriodic acid.” The correction appears as a “Remove/Add” in this rulemaking.

• The entry “Nitrocresols, solid,” UN2446 is revised by correcting the Column (7) Special provision entry “TP3” to read “IP3.”

• The entry “Organometallic substance, liquid, water-reactive, flammable,” UN3399 is revised by correcting the Column (1) Symbols to add a “G” symbol.

• The entry “Radioactive material, Type A package non-special form, non fissile, or fissile excepted,” UN2915 is revised by correcting Columns (8B) and (8C) to read “415, 418” and “415, 419” respectively.

• The entry “Receptacles, small, containing gas (gas cartridges) non-flammable, without release device, not refillable and not exceeding 1 L capacity” is added. This entry was inadvertently removed under Docket HM-215G (70 FR 34381).

• The entry “Samples, explosive, other than initiating explosives,” UN1090 is revised by correcting the Column (2) Hazardous materials description and proper shipping name to read “Samples, explosive, other than initiating explosives.” In addition, the Column (4) entry “UN1090” is revised to read “UN0190” and the Column 10B entry “12E” is removed. The correction appears as a “Remove/Add” in this rulemaking.

• The entry “Selenium compound, liquid, n.o.s.,” is revised by correcting the Column (7) Special provision entry “TP14” to read “T14.”

• The entry “Sulfuric acid, fuming with 30 percent or more free sulfur trioxide,” UN1831 is revised by correcting the Column (1) Symbols to add a “+” symbol.

• The entry “Trinitrochlorobenzene (picry1 chloride), wetted, with not less than 10% water by mass,” UN3365 is revised by correcting the Column (2) Hazardous materials description and proper shipping name to read “Trinitrochlorobenzene (picryl chloride), wetted, with not less than 10% water by mass.” The correction appears as a “Remove/Add” in this rulemaking.

Section 172.102. In paragraph (c)(1), in Special provision 144, we are correcting the reference “40 CFR 180.12” to read “40 CFR 280.12”. In paragraph (c)(1), we are editorially revising Special provision 132 for clarity. In paragraph (c)(4), in the Table 1.—IB CODES (IBC CODES), in the IB2 entry, a typographical error is corrected.

Section 172.203. We are removing a requirement in paragraph (m) to include the word “Poison” or “Toxic” on a shipping paper if the fact that it is a poison is not disclosed in the shipping name or class entry. The requirement is no longer necessary because § 172.202(a)(2) requires the subsidiary hazard class(es) to be entered following the primary hazard class or division number.

Section 172.322. We are adding a new paragraph (f) to reference the exception for marine pollutants in § 171.4(c).

Part 173

Section 173.3. In § 173.3, paragraph (c) introductory text is amended to include the proper tense of the word “place.” In addition, grammatical errors were corrected for clarity.

Section 173.4. In paragraph (a) (10), we are revising the text to remove an obsolete package marking statement.

Section 173.134. In paragraph (c)(1)(ii), we are correcting the reference “29 CFR 1910.103” to read “29 CFR 1910.1030”.

Section 173.222. In paragraph (c)(2), we are correcting the conversion “0.5 L (0.3 gallons)” to read “0.5 L (0.1 gallon)”.

Section 173.227. In § 173.227, in the section heading, a typographical error is corrected.

Section 173.315. Section 173.315(a) is revised to clarify that UN portable tanks used to transport liquefied gas must be loaded and offered in accordance with Special Provision T50 in § 172.102 and must otherwise comply with the requirements of § 173.315.

Section 173.403. In the definition for “Radioactive instrument or article,” we are correcting the wording “such as an instrument such as an instrument” to read “such as an instrument”.

Section 173.418. We are revising paragraph (e) to remove the reference to Column (8) of the HMT for authorized Type B packagings for pyrophoric Class 7 (radioactive) materials, because the entries for pyrophoric Class 7 (radioactive) materials no longer appear in the HMT.

Section 173.421. We are correcting paragraph (a)(5) to state that a package may not contain fissile material unless excepted by § 173.453. Under § 173.421(a)(5) a package is limited to contain 15 grams or less of uranium-235. This package exception limit is actually in § 173.453 not § 173.426, and only applies to packages containing fissile material.

Section 173.427. In paragraph (b)(5)(i), we are correcting the reference “(§§ 179.200, 179.201, 179.202 of this subchapter)” to read “(§§ 173.31, and 179.201-1 to 179.201-11 of this subchapter)”.

Section 173.465. In paragraph (c)(1), we are correcting the reference to “Table 12” to read “Table 10”. Additionally, in column one of Table 10, we are correcting the wording “Packaging mass” to read “Package mass”.

Part 176

Section 176.144. In § 176.144, in paragraph (a), in the “TABLE 176.144(a)—AUTHORIZED MIXED STOWAGE FOR EXPLOSIVES,” for compatibility groups “E” and “F” a typographical error which occurred during the printing process is corrected.

Section 176.905. In paragraph (i)(3), we are correcting the reference “46 CFR 70.10-44” to read “46 CFR 70.10-1”.

Part 177

Section 177.848. We are reinstating a prohibition for storing, loading and transporting cyanides and cyanide mixtures or solutions with acids if a mixture of the materials would generate hydrogen cyanide. In a final rule published January 24, 2005, under Docket No. PHMSA 03-16370 (HM-233; 70 FR 3304), we revised paragraph (c) by adding a cross-reference to the § 173.12(e) exceptions from segregation requirements for storage, loading and transportation of cyanides, cyanide mixture or solutions with acids. We inadvertently removed the prohibition for loading, storage and transportation of cyanides, cyanide mixtures or solutions with acids when, if mixed the materials would generate hydrogen cyanide. In this final rule, we are reinstating the prohibition.

Part 178

Section 178.245-1. In paragraph (e), we are correcting the reference “§ 173.300” to read “§ 173.115”.

Section 178.345-1. In paragraph (c), in the definition for “MAWP,” we are correcting the reference “§ 178.345-1(k)” to read “§ 178.320(a)”.

Section 178.350. We are revising this section to clarify that the term “Packaging manufacturer” used in § 178.3, for purposes of this section, means the person certifying that the package meets all requirements of § 173.412.

Part 180

Section 180.352. On December 20, 2004, we published a final rule under Docket Number RSPA-04-17036 (HM-215G). In that final rule, we added a new paragraph (d)(i)(iv) authorizing retests and inspections performed under paragraphs (d)(1)(i) and (d)(1)(ii) of this section to be used to satisfy the tests and inspections required of paragraph (b) of this section (69 FR 76186). However, an editorial error occurred during the printing process that caused the text in revised paragraphs (e) and (f) and the text in new paragraph (g) to be inadvertently omitted. The original intent of this change was to keep the “repair” and “routine maintenance” requirements in this section separate. Therefore, we are revising § 180.352 to correct this editorial error.

III. Regulatory Analyses and Notices

A. Statutory/Legal Authority for This Rulemaking

This final rule is published under authority of Federal hazardous materials transportation law (Federal hazmat law; 49 U.S.C. 5101 et seq.). Section 5103(b) of Federal hazmat law authorizes the Secretary of Transportation to prescribe regulations for the safe transportation, including security, of hazardous materials in intrastate, interstate, and foreign commerce.

B. Executive Order 12866 and DOT Regulatory Policies and Procedures

This final rule is not considered a significant regulatory action under section 3(f) of Executive Order 12866 and, therefore, was not reviewed by the Office of Management and Budget. This rule is not significant under the Regulatory Policies and Procedures of the Department of Transportation (44 FR 11034). Because this rule has no economic impact, it is not necessary to prepare a regulatory impact analysis.

C. Executive Order 13132

This final rule has been analyzed in accordance with the principles and criteria in Executive Order 13132 (“Federalism”). This final rule does not adopt any regulation that: (1) Has substantial direct effects on the States, the relationship between the national government and the States, or the distribution of power and responsibilities among the various levels of government; (2) imposes substantial direct compliance costs on State and local governments; or (3) preempts State law. PHMSA is not aware of any State, local, or Indian tribe requirements that would be preempted by correcting editorial errors and making minor regulatory changes. This final rule does not have sufficient federalism impacts to warrant the preparation of a federalism assessment.

D. Executive Order 13175

This final rule has been analyzed in accordance with the principles and criteria contained in Executive Order 13175 (“Consultation and Coordination with Indian Tribal Governments”). Because this final rule does not have tribal implications, does not impose substantial direct compliance costs on Indian tribal governments, and does not preempt tribal law, the funding and consultation requirements of Executive Order 13175 do not apply, and a tribal summary impact statement is not required.

E. Regulatory Flexibility Act, Executive Order 13272, and DOT Procedures and Policies

I certify that this final rule will not have a significant economic impact on a substantial number of small entities. This rule makes minor editorial changes which will not impose any new requirements on persons subject to the HMR; thus, there are no direct or indirect adverse economic impacts for small units of government, businesses or other organizations.

F. Unfunded Mandates Reform Act of 1995

This rule does not impose unfunded mandates under the Unfunded Mandates Reform Act of 1995. It does not result in costs of $120.7 million or more to either State, local, or tribal governments, in the aggregate, or to the private sector, and is the least burdensome alternative that achieves the objective of the rule.

G. Paperwork Reduction Act

There are no new information collection requirements in this final rule.

H. Environmental Impact Analysis

There are no environmental impacts associated with this final rule.

I. Regulation Identifier Number (RIN)

A regulation identifier number (RIN) is assigned to each regulatory action listed in the Unified Agenda of Federal Regulations. The Regulatory Information Service Center publishes the Unified Agenda in April and October of each year. The RIN number contained in the heading of this document can be used to cross-reference this action with the Unified Agenda.

List of Subjects

49 CFR Part 105

Administrative practice and procedure, Hazardous materials transportation.

49 CFR Part 106

Administrative practice and procedure, Hazardous materials transportation.

49 CFR Part 107

Administrative practice and procedure, Hazardous materials transportation, Packaging and containers, Penalties, Reporting and recordkeeping requirements.

49 CFR Part 110

Disaster assistance, Education, Grant programs-environmental protection, Grant programs-Indians, Hazardous materials transportation, Hazardous substances, Indians, Reporting and recordkeeping requirements.

49 CFR Part 171

Exports, Hazardous materials transportation, Hazardous waste, Imports, Reporting and recordkeeping requirements.

49 CFR Part 172

Education, Hazardous materials transportation, Hazardous waste, Labeling, Markings, Packaging and containers, Reporting and recordkeeping requirements.

49 CFR Part 173

Hazardous materials transportation, Packaging and containers, Radioactive materials, Reporting and recordkeeping requirements, Uranium.

49 CFR Part 176

Hazardous materials transportation, Maritime carriers, Radioactive materials, Reporting and recordkeeping requirements.

49 CFR Part 177

Hazardous materials transportation, Motor carriers, Radioactive materials, Reporting and recordkeeping requirements.

49 CFR Part 178

Hazardous materials transportation, Motor vehicle safety, Packaging and containers, Reporting and recordkeeping requirements.

49 CFR Part 179

Hazardous materials transportation, Railroad safety, Reporting and recordkeeping requirements.

49 CFR Part 180

Hazardous materials transportation, Motor vehicle safety, Packaging and containers, Reporting and recordkeeping requirements.

In consideration of the foregoing, 49 CFR Chapter I is amended as follows:

PART 105—HAZARDOUS MATERIALS PROGRAM DEFINITIONS AND GENERAL PROCEDURES

1. The authority citation for part 105 continues to read as follows:

Authority: 49 U.S.C. 5101-5127; 49 CFR 1.53.

PART 105—[NOMENCLATURE CHANGE]

2. In part 105, the acronym “RSPA” is removed and “PHMSA” is added each place it appears in the following places:

a. Section 105.26 section heading;

b. Section 105.26 in two places;

c. Section 105.30 introductory text;

d. Section 105.30(b) in two places;

e. Section 105.35 section heading;

f. Section 105.35(a); introductory text;

g. Section 105.45(a) in two places;

h. Section 105.45(b)(2) in three places;

i. Section 105.45(b)(3);

j. Section 105.50(a);

k. Section 105.50(d);

l. Section 105.55(a) introductory text in two places; and

m. Section 105.55(b) in two places.

3. Amend § 105.5, by revising paragraph (a), and the definitions of “Associate Administrator” and “File or Filed” in paragraph (b), to read as follows:

§ 105.5 Definitions.

(a) This part contains the definitions for certain words and phrases used throughout this subchapter (49 CFR parts 105 through 110). At the beginning of each subpart, the Pipeline and Hazardous Materials Safety Administration (“PHMSA” or “we”) will identify the defined terms that are used within the subpart—by listing them—and refer the reader to the definitions in this part. This way, readers will know that PHMSA has given a term a precise meaning and will know where to look for it.

* * * * *

(b) * * *

Associate Administrator means Associate Administrator for Hazardous Materials Safety, Pipeline and Hazardous Materials Safety Administration.

* * * * *

File or Filed means received by the appropriate PHMSA or other designated office within the time specified in a regulation or rulemaking document.

* * * * *

4. Section 105.20 is revised to read as follows:

§ 105.20 Guidance and interpretations.

(a) Hazardous materials regulations. You can obtain information and answers to your questions on compliance with the hazardous materials regulations (49 CFR parts 171 through 180) and interpretations of those regulations by contacting PHMSA's Office of Hazardous Materials Safety as follows:

(1) Call the Hazardous Materials Information Center at 1-800-467-4922 (in Washington, DC, call (202) 366-4488). The Center is staffed from 9 a.m. through 5 p.m. Eastern time, Monday through Friday except Federal holidays. After hours, you can leave a recorded message and your call will be returned by the next business day.

(2) E-mail the Hazardous Materials Information Center at infocntr@dot.gov.

(3) Obtain hazardous materials safety information via the Internet at http://www.phmsa.dot.gov.

(4) Send a letter, with your return address and a daytime telephone number, to: Office of Hazardous Materials Standards, Pipeline and Hazardous Materials Safety Administration, Attn: PHH-10, U.S. Department of Transportation, 400 7th Street SW., Washington, DC 20590-0001.

(b) Federal hazardous materials transportation law and preemption. You can obtain information and answers to your questions on Federal hazardous materials transportation law, 49 U.S.C. 5101 et seq., and Federal preemption of State, local, and Indian tribe hazardous material transportation requirements, by contacting PHMSA's Office of the Chief Counsel as follows:

(1) Call the office of the Chief Counsel at (202) 366-4400 from 9 a.m. to 5 p.m. Eastern time, Monday through Friday except Federal holidays.

(2) Access information from the Office of the Chief Counsel via the Internet at http://www.phmsa.dot.gov.

(3) Send a letter, with your return address and a daytime telephone number, to: Office of the Chief Counsel, Pipeline and Hazardous Materials Safety Administration, Attn: PHC-10, U.S. Department of Transportation, 400 7th Street, SW., Washington, DC 20590-0001.

(4) Contact the Office of the Chief Counsel for a copy of applications for preemption determinations, waiver of preemption determinations, and inconsistency rulings received by PHMSA before February 1, 1997.

5. Section 105.25 is revised to read as follows:

§ 105.25 Reviewing public documents.

PHMSA is required by statute to make certain documents and information available to the public. You can review and copy publicly available documents and information at the locations described in this section.

(a) DOT Docket Management System. Unless a particular document says otherwise, the following documents are available for public review and copying at the Department of Transportation's Docket Management System, Room PL 401, 400 7th Street, SW., Washington, DC 20590-0001, or for review and downloading through the Internet at http://dms.dot.gov.

(1) Rulemaking documents in proceedings started after February 1, 1997, including notices of proposed rulemaking, advance notices of proposed rulemaking, public comments, related Federal Register notices, final rules, appeals, and PHMSA's decisions in response to appeals.

(2) Applications for exemption numbered DOT-E 11832 and above. Also available are supporting data, memoranda of any informal meetings with applicants, related Federal Register notices, public comments, and decisions granting or denying exemptions applications.

(3) Applications for preemption determinations and waiver of preemption determinations received by PHMSA after February 1, 1997. Also available are public comments, Federal Register notices, and PHMSA's rulings, determinations, decisions on reconsideration, and orders issued in response to those applications.

(b) Office of Pipeline and Hazardous Materials Safety Administration's Office of Hazardous Materials Safety.

(1) You may obtain documents (e.g., proposed and final rules, notices, letters of clarification, safety notices, DOT forms and other documents) by contacting the Hazardous Materials Information Center at 1-800-467-4922 or through the Internet at http://www.phmsa.dot.gov.

(2) Upon your written request, we will make the following documents and information available to you:

(i) Appeals under 49 CFR part 107 and PHMSA's decisions issued in response to those appeals.

(ii) Records of compliance order proceedings and PHMSA compliance orders.

(iii) Applications for approvals, including supporting data, memoranda of any informal meetings with applicants, and decisions granting or denying approvals applications.

(iv) Applications for exemptions numbered below DOT-E 11832 and related background information are available for public review and copying at the Office of Hazardous Materials Safety, Office of Hazardous Materials Exemptions and Approvals, U.S. Department of Transportation, Room 8100, 400 7th Street, SW., Washington, DC 20590-0001.

(v) Other information about PHMSA's hazardous materials program required by statute to be made available to the public for review and copying and any other information PHMSA decides should be available to the public.

(3) Your written request to review documents should include the following:

(i) A detailed description of the documents you wish to review.

(ii) Your name, address, and telephone number.

(4) Send your written request to: Associate Administrator for Hazardous Materials Safety, Pipeline and Hazardous Materials Safety Administration, Attn: PHH-1, U.S. Department of Transportation, 400 7th Street, SW., Washington, DC 20590-0001.

6. In § 105.40, paragraph (d) is revised to read as follows:

§ 105.40 Designated agents for non residents.

* * * * *

(d) Address. Send your designation to: Office of Hazardous Materials Exemptions and Approvals, Pipeline and Hazardous Materials Safety Administration, Attn: PHH-30, U.S. Department of Transportation, 400 7th Street, SW., Washington, DC 20590-0001.

* * * * *

PART 106—RULEMAKING PROCEDURES

7. The authority citation for part 106 continues to read as follows:

Authority: 49 U.S.C. 5101-5127; 49 CFR 1.53.

PART 106—[NOMENCLATURE CHANGE]

8. In part 106, the acronym “RSPA” is removed and “PHMSA” is added in each place it appears in the following places:

a. Subpart A, Title;

b. Section 106.15;

c. Section 106.25 introductory text;

d. Section 106.35 in three places;

e. Section 106.40 introductory text;

f. Section 106.60;

g. Section 106.75 introductory text in three places;

h. Section 106.80;

i. Section 106.85(a);

j. Section 106.85(b);

k. Section 106.90 introductory text;

l. Section 106.90(c);

m. Section 106.105 section heading;

n. Section 106.110 section heading and introductory text;

o. Section 106.110(b);

p. Section 106.115(a)(4);

q. Section 106.130 section heading and introductory text;

r. Section 106.130(a)(4) in two places;

s. Section 106.130(b)(1); and

t. Section 106.130(b)(2) in two places.

PART 106—[NOMENCLATURE CHANGE]

9. In part 106, the acronym “RSPA's” is removed and “PHMSA's” is added each place it appears in the following places:

a. Section 106.20;

b. Section 106.40(e);

c. Section 106.55 introductory text;

d. Section 106.110(a) in three places;

e. Section 106.115(a) introductory text in two places; and

f. Section 106.115(b) introductory text.

10. In § 106.10 paragraph (a) introductory text, and (b)(2) are revised to read as follows:

§ 106.10 Process for issuing rules.

(a) PHMSA (“we”) uses informal rulemaking procedures under the Administrative Procedure Act (5 U.S.C. 553) to add, amend, or delete regulations. To propose or adopt changes to a regulation, PHMSA may issue one or more of the following documents. We publish the following rulemaking documents in the Federal Register unless we name and personally serve a copy of a rule on every person subject to it:

* * * * *

(b) * * *

(2) PHMSA's legal authority for issuing the rulemaking document.

* * * * *

11. Section 106.45 is revised to read as follows:

§ 106.45 Tracking rulemaking actions.

The following identifying numbers allow you to track PHMSA's rulemaking activities:

(a) Docket number. We assign an identifying number, called a docket number, to each rulemaking proceeding. Each rulemaking document that PHMSA issues in a particular rulemaking proceeding will display the same docket number. This number allows you to do the following:

(1) Associate related documents that appear in the Federal Register.

(2) Search the DOT Docket Management System (“DMS”) for information on particular rulemaking proceedings—including notices of proposed rulemaking, public comments, petitions for rulemaking, appeals, records of additional rulemaking proceedings and final rules. There are two ways you can search the DMS:

(i) Visit the public docket room and review and copy any docketed materials during regular business hours. The DOT Docket Management System is located at the U.S. Department of Transportation, Plaza Level 401, 400 7th Street, SW., Washington, DC 20590-0001.

(ii) View and download docketed materials through the Internet at http://dms.dot.gov.

(b) Regulation identifier number. The Department of Transportation publishes a semiannual agenda of all current and projected Department of Transportation rulemakings, reviews of existing regulations, and completed actions. This semiannual agenda appears in the Unified Agenda of Federal Regulations that is published in the Federal Register in April and October of each year. The semiannual agenda tells the public about the Department's—including PHMSA's—regulatory activities. The Department assigns a regulation identifier number (RIN) to each individual rulemaking proceeding in the semiannual agenda. This number appears on all rulemaking documents published in the Federal Register and makes it easy for you to track those rulemaking proceedings in both the Federal Register and the semiannual regulatory agenda itself, as well as to locate all documents in the Docket Management System pertaining to a particular rulemaking.

12. Section 106.95 is revised to read as follows:

§ 106.95 Requesting a change to the regulations.

You may ask PHMSA to add, amend, or delete a regulation by filing a petition for rulemaking as follows:

(a) For regulations in 49 CFR parts 110, 130, 171 through 180, submit the petition to: Office of Hazardous Materials Standards, Pipeline and Hazardous Materials Safety Administration, Attn: PHH-10, U.S. Department of Transportation, 400 7th Street, SW., Washington, DC 20590-0001.

(b) For regulations in 49 CFR parts 105, 106, or 107, submit the petition to: Office of the Chief Counsel, Pipeline and Hazardous Materials Safety Administration, Attn: PHC-10, U.S. Department of Transportation, 400 7th Street, SW., Washington, DC 20590-0001.

13. Section 106.120 is revised to read as follows:

§ 106.120 Appeal deadline.

(a) Appeal of a final rule or withdrawal of a notice of proposed rulemaking. If you appeal PHMSA's issuance of a final rule or PHMSA's withdrawal of a proposed rulemaking, your appeal document must reach us no later than 30 days after the date PHMSA published the regulation or the withdrawal notice in the Federal Register. After that time, PHMSA will consider your appeal to be a petition for rulemaking under § 106.100.

(b) Appeal of a decision. If you appeal PHMSA's decision on a petition for rulemaking, your appeal document must reach us no later than 30 days from the date PHMSA served you with written notice of PHMSA's decision.

PART 107—HAZARDOUS MATERIALS PROGRAM PROCEDURES

14. The authority citation for part 107 continues to read as follows:

Authority: 49 U.S.C. 5101-5127, 44701; Pub. L. 101-410 section 4 (28 U.S.C. 2461 note); Pub. L. 104-121 sections 212-213; Pub. L. 104-134 section 31001; 49 CFR 1.45, 1.53.

PART 107—[NOMENCLATURE CHANGE]

15. In part 107, the acronym “RSPA” is removed and “PHMSA” is added in each place it appears in the following places:

a. Section 107.1 definitions of “Approval Agency,” “Filed,” and “Respondent”;

b. Section 107.111;

c. Section 107.310(e);

d. Section 107.327(a)(1)(iii);

e. Section 107.337;

f. Section 107.339;

g. Appendix A to Subpart D, Part IV(A.)(1);

h. Section 107.402(b)(2);

i. Section 107.403(c);

j. Section 107.503(c);

k. Section 107.608(c);

l. Section 107.616(d)(1);

m. Section 107.616(d)(3);

n. Section 107.620(a)(1);

o. Section 107.620(a)(2);

p. Section 107.620(b);

q. Section 107.711; and

r. Section 107.803(a).

PART 107—[NOMENCLATURE CHANGE]

16. In part 107, the acronym “RSPA's” is removed and “PHMSA's” is added in each place it appears in the following places:

a. Section 107.310(b)(2); and

b. Appendix A to Subpart D, Part IV(A.)(1).

PART 107—[NOMENCLATURE CHANGE]

17. In part 107, “Research and Special Programs Administration” is removed and “Pipeline and Hazardous Materials Safety Administration” is added in each place it appears in the following places:

a. Section 107.1 definitions of “Administrator and Associate Administrator”;

b. Section 107.127(a);

c. Section 107.203(b)(1)(i);

d. Section 107.215(b)(1)(i);

e. Section 107.301;

f. Section 107.305(b)(4);

g. Section 107.335; and

h. Section 107.705(a)(1).

PART 107—[NOMENCLATURE CHANGE]

18. In part 107, “aahmspreemption@rspa.dot.gov” is removed and “aahspreemption@dot.gov” is added in each of the following places:

a. Section 107.203(b)(1)(iii); and

b. Section 107.215(b)(1)(iii).

PART 107—[NOMENCLATURE CHANGE]

19. In part 107, “Approvals@rspa.dot.gov” is removed and “approvals@dot.gov” is added in each place it appears in the following places:

a. Section 107.402(a); and

b. Section 107.705(a)(1).

20. In § 107.105, paragraph (a)(1) is revised to read as follows:

§ 107.105 Application for exemption.

(a) * * *

(1) Be submitted for timely consideration, at least 120 days before the requested effective date, in duplicate to: Associate Administrator for Hazardous Materials Safety (Attention: Exemptions, PHH-31), Pipeline and Hazardous Materials Safety Administration, U.S. Department of Transportation, 400 7th Street, SW., Washington, DC 20590-0001. Alternatively, you may send the application with any attached supporting documentation submitted in an appropriate format by facsimile (fax) to: (202) 366-3753 or (202) 366-3308 or by electronic mail (e-mail) to: Exemptions@dot.gov;

* * * * *

21. In § 107.107, paragraph (b)(1) is revised to read as follows:

§ 107.107 Application for party status.

(b) * * *

(1) Be submitted in duplicate to: Associate Administrator for Hazardous Materials Safety (Attention: Exemptions, PHH-31), Pipeline and Hazardous Materials Safety Administration, U.S. Department of Transportation, 400 7th Street, SW., Washington, DC 20590-0001. Alternatively, you may send the application with any attached supporting documentation in an appropriate format by facsimile (fax) to: (202) 366-3753 or (202) 366-3308 or by electronic mail (e-mail) to: Exemptions@dot.gov;

* * * * *

22. In § 107.109, paragraph (a)(1) is revised to read as follows

§ 107.109 Application for renewal.

(a) * * *

(1) Be submitted in duplicate to: Associate Administrator for Hazardous Materials Safety (Attention: Exemptions, PHH-31), Pipeline and Hazardous Materials Safety Administration, U.S. Department of Transportation, 400 7th Street, SW., Washington, DC 20590-0001. Alternatively, you may send the application, with any attached supporting documentation submitted in an appropriate format by facsimile (fax) to: (202) 366-3753 or (202) 366-3308 or by electronic mail (e-mail) to: Exemptions@dot.gov;

* * * * *

22a. In § 107.117 paragraph (d)(5) is revised to read as follows:

§ 107.117 Emergency Processing.

* * * * *

(d) * * *

(5) Water Transportation: Chief, Hazardous Materials Standards Division, Office of Operating and Environmental Standards, U.S. Coast Guard, U.S. Department of Homeland Security, Washington, DC 20593-0001; (202) 267-1217 (day); 1-800-424-8802 (night).

* * * * *

23. Section 107.325 is revised to read as follows:

§ 107.325 Appeals.

(a) Hearing proceedings. A party aggrieved by an ALJ's decision and order issued under § 107.323, may file a written appeal in accordance with paragraph (c) of this section with the Administrator, Office of the Administrator, Pipeline and Hazardous Materials Safety Administration, 400 Seventh Street, SW., Washington, DC 20590-0001.

(b) Non-Hearing proceedings. A respondent aggrieved by an order issued under § 107.317, may file a written appeal in accordance with paragraph (c) of this section with the Administrator, Office of the Administrator, Pipeline and Hazardous Materials Safety Administration, 400 Seventh Street, SW., Washington, DC 20590-0001.

(c) An appeal of an order issued under this subpart must:

(1) Be filed within 20 days of receipt of the order by the appealing party; and

(2) State with particularity the findings in the order that the appealing party challenges, and include all information and arguments pertinent thereto.

(d) If the Administrator, PHMSA, affirms the order in whole or in part, the respondent must comply with the terms of the decision within 20 days of the respondent's receipt thereof, or within the time prescribed in the order. If the respondent does not comply with the terms of the decision within 20 days of receipt, or within the time prescribed in the order, the case may be referred to the Attorney General for action to enforce the terms of the decision.

(e) The filing of an appeal stays the effectiveness of an order issued under § 107.317 or § 107.323. However, if the Administrator, PHMSA, determines that it is in the public interest, he may keep an order directing compliance in force pending appeal.

§ 107.402 [Amended]

24. In § 107.402, in paragraph (a), “DHM-32” is removed and “PHH-32” is added in its place.

§ 107.608 [Amended]

25. In § 107.608, in paragraph (d), “DHM-60” is removed and “PHH-60” is added in its place.

§ 107.705 [Amended]

26. In § 107.705, in paragraph (a)(1), “DHM-32” is removed and “PHH-32” is added in its place.

§ 107.805 [Amended]

27. In § 107.805, in paragraph (g), “DHM-32” is removed and “PHH-32” is added in its place.

Appendix A to Subpart D [Amended]

28. In part 107, Appendix A to Subpart D, Part IV, paragraph C., in the first sentence the reference to “49 U.S.C. 5213(a)” is revised to read “49 U.S.C. 5123(a)”.

PART 110—HAZARDOUS MATERIALS PUBLIC SECTOR TRAINING AND PLANNING GRANTS

29. The authority citation for part 110 continues to read as follows:

Authority: 49 U.S.C. 5101-5127; 49 CFR 1.53.

PART 110—[NOMENCLATURE CHANGE]

30. In part 110, “Research and Special Programs Administration” is removed and “Pipeline and Hazardous Materials Safety Administration” is added in each place it appears in the following places:

a. Section 110.5(c);

b. Section 110.20 definition of “Associate Administrator”;

c. Section 110.30(a) introductory text; and

d. Section 110.120.

§ 110.130 [Amended]

31. In § 110.130 remove “RSPA” and add “PHMSA” in its place.

PART 171—GENERAL INFORMATION, REGULATIONS, AND DEFINITIONS

32. The authority citation for part 171 continues to read as follows:

Authority: 49 U.S.C. 5101-5127, 44701; 49 CFR 1.45 and 1.53; Pub. L. 101-410 section 4 (28 U.S.C. 2461 note); Pub. L. 104-134 section 31001.

PART 171—[NOMENCLATURE CHANGE]

33. In part 171, the acronym “RSPA” is removed and “PHMSA” is added in each place it appears in the following places:

a. Section 171.20(a); and

b. Section 171.20(c).

PART 171—[NOMENCLATURE CHANGE]

34. In part 171, “Research and Special Programs Administration” is removed and “Pipeline and Hazardous Materials Safety Administration” is added in each place it appears in the following places:

a. Section 171.8 definitions of “Associate Administrator”;

b. Section 171.16(b)(1); and

c. Section 171.20(b).

35. In § 171.6, in paragraph (b)(2) table, the following changes are made:

a. In the entries for Current OMB Control Nos. “2137-0018,” “2137-0039,” “2137-0051,” “2137-0542,” and “2137-0559,” the text in column 2 is revised, and

b. An entry for OMB Control No. “2137-0591” is added, in numerical order.

The revisions and addition read as follows:

§ 171.6 Control numbers under the Paperwork Reduction Act.

* * * * *

(b) * * *

(2) Table.

* * * * *

Current OMB control No. | Title | Title 49 CFR part or section where identified and described
* * * * * * *
2137-0018 | Inspection and Testing of Portable Tanks and Intermediate Bulk Containers | * * *
* * * * * * *
2137-0039 | Hazardous Materials Incidents Reports | * * *
2137-0051 | Rulemaking, Exemption, and Preemption Requirements | * * *
* * * * * * *
2137-0542 | Flammable Cryogenic Liquids | * * *
* * * * * * *
2137-0559 | (Rail Carriers and Tank Car Tank Requirements) Requirements for Rail Tank Car Tanks—Transportation of Hazardous Materials by Rail | * * *
* * * * * * *
2137-0591 | Response Plans for Shipments of Oil | Part 130.
* * * * * * *

* * * * *

36. In § 171.8 the following changes are made:

a. In the definition for “Maximum Allowable Working Pressure or MAWP,” the reference to “§ 178.320(c)” is removed and “§ 178.320(a)” is added in its place.

b. The definition of “RSPA” is removed.

c. The definition of “PHMSA” is added in the appropriate alphabetical sequence to read as follows:

§ 171.8 Definitions.

* * * * *

PHMSA means the Pipeline and Hazardous Materials Safety Administration, U.S. Department of Transportation, Washington, DC 20590.

* * * * *

§ 171.11 [Amended]

37. In § 171.11, in paragraph (d)(6)(iv), the wording “radioactive material” is removed and the wording “limited quantities of radioactive material” is added in its place.

§ 171.16 [Amended]

38. In § 171.16, in paragraph (b)(1), “DHM-63” is removed and “PHH-63” is added in each place that it appears.

PART 172—HAZARDOUS MATERIALS TABLE, SPECIAL PROVISIONS, HAZARDOUS MATERIALS COMMUNICATIONS, EMERGENCY RESPONSE INFORMATION, AND TRAINING REQUIREMENTS

39. The authority citation for part 172 continues to read as follows:

Authority: 49 U.S.C. 5101-5127; 49 CFR 1.53.

PART 172—[NOMENCLATURE CHANGE]

40. In Part 172, the acronym “RSPA” is removed and “PHMSA” is added in each of the following places:

a. Section 172.101, Appendix A, Table 1, Footnote @; and

b. Section 172.101, Appendix A, Table 2, Footnote * * *.

41. In § 172.101, the Hazardous Materials Table is amended by removing, adding and revising, in the appropriate alphabetical sequence, the following entries to read as follows:

§ 172.101 Hazardous Materials Table
Symbols | Hazardous materials descriptions and proper shipping names | Hazard class or division | Identification numbers | PG | Label codes | Special provisions | (8) Packaging (§ 173.***): Exceptions | (8) Packaging (§ 173.***): Non-bulk | (8) Packaging (§ 173.***): Bulk | (9) Quantity limitations: Passenger aircraft/rail | (9) Quantity limitations: Cargo aircraft only | (10) Vessel stowage: Location | (10) Vessel stowage: Other
(1) | (2) | (3) | (4) | (5) | (6) | (7) | (8A) | (8B) | (8C) | (9A) | (9B) | (10A) | (10B)
* * * * * * *
| Adhesives, containing a flammable liquid | 3 | UN1133 | I | 3 | B42, T11, TP1, TP8, TP27 | 150 | 201 | 243 | 1 L | 30 L | B |
|  |  |  | II | 3 | 149, B52, IB2, T4, TP1, TP8 | 150 | 173 | 242 | 5 L | 60 L | A |
|  |  |  | III | 3 | B1, B52, IB3, T2, TP1 | 150 | 173 | 242 | 60 L | 220 L | A |
* * * * * * *
| Aerosols, corrosive, Packing Group II or III (each not exceeding 1 L capacity) | 2.2 | UN1950 |  | 2.2, 8 | A34 | 306 | None | None | 75 kg | 150 kg | A | 48, 87, 126
| Aerosols, flammable, (each not exceeding 1 L capacity) | 2.1 | UN1950 |  | 2.1 | N82 | 306 | None | None | 75 kg | 150 kg | A | 48, 87, 126
| Aerosols, flammable, n.o.s. (engine starting fluid) each not exceeding 1 L capacity) | 2.1 | UN1950 |  | 2.1 | N82 | 306 | 304 | None | Forbidden | 150 kg | A | 48, 87, 126
| Aerosols, non-flammable, (each not exceeding 1 L capacity) | 2.2 | UN1950 |  | 2.2 |  | 306 | None | None | 75 kg | 150 kg | A | 48, 87, 126
| Aerosols, poison, (each not exceeding 1 L capacity) | 2.2 | UN1950 |  | 2.2, 6.1 |  | 306 | None | None | Forbidden | Forbidden | A | 48, 87, 126
* * * * * * *
G | Alkaloids, solid, n.o.s. or Alkaloid salts, solid, n.o.s. poisonous | 6.1 | UN1544 | I | 6.1 | IB7, IP1, T6, TP33 | None | 211 | 242 | 5 kg | 50 kg | A |
|  |  |  | II | 6.1 | IB8, IP2, 1P4, T3, TP33 | 153 | 212 | 242 | 25 kg | 100 kg | A |
|  |  |  | III | 6.1 | IB8, IP3, T1, TP33 | 153 | 213 | 240 | 100 kg | 200 kg | A |
* * * * * * *
| Cartridges, safety, see Cartridges for weapons, other than blank or Cartridges, power device (UN 0323) |  |  |  |  |  |  |  |  |  |  |  |
* * * * * * *
| Cartridges, sporting, see Cartridges for weapons, other than blank |  |  |  |  |  |  |  |  |  |  |  |
* * * * * * *
| Chlorate and magnesium chloride mixture, solid | 5.1 | UN1459 | III | 5.1 | A9, IB8, IP3, N34, T1, TP33 | 152 | 213 | 240 | 25 kg | 100 kg | A | 56, 58
| Chlorate of potash, see Potassium chlorate |  |  |  |  |  |  |  |  |  |  |  |
* * * * * * *
| Chloroacetophenone, CN, liquid | 6.1 | UN3416 | II | 6.1 | A3, IB2, N12, N32, N33, N34, T3, TP2, TP13 | None | 202 | 243 | Forbidden | 60 L | D | 12, 40
| Chloroacetophenone, CN, solid | 6.1 | UN1697 | II | 6.1 | A3, IB8, IP2, IP4, N12, N32, N33, N34, T3, TP13, TP33 | None | 212 | None | Forbidden | 100 kg | D | 12, 40
* * * * * * *
| Etching acid, liquid, n.o.s., see Hydrofluoric acid, solution etc |  |  |  |  |  |  |  |  |  |  |  |
* * * * * * *
| Fissile radioactive materials, see Radioactive material, fissile, n.o.s |  |  |  |  |  |  |  |  |  |  |  |
* * * * * * *
| Hydrogen iodid solution, see Hydriodic acid |  |  |  |  |  |  |  |  |  |  |  |
* * * * * * *
G | Samples, explosive, other than initiating explosives |  | UN1090 | II |  | 113 | None | 62 | None | Forbidden | Forbidden | 14 | 12E
* * * * * * *
| Trinitrochlorobenzene (picry 1 chloride), wetted, with not less than 10% water by mass | 4.1 | UN3365 | I | 4.1 | 162, A8, A19, N41, N84 | None | 211 | None | 0.5 kg | 0.5 kg | E | 36
* * * * * * *
| [ADD]
* * * * * * *
| Adhesives, containing a flammable liquid | 3 | UN1133 | I | 3 | B42, T11, TP1, TP8, TP27 | 150 | 201 | 243 | 1 L | 30 L | B |
|  |  |  | II | 3 | 149, B52, IB2, T4, TP1, TP8 | 150 | 173 | 242 | 5 L | 60 L | B |
|  |  |  | III | 3 | B1, B52, IB3, T2, TP1 | 150 | 173 | 242 | 60 L | 220 L | A |
* * * * * * *
| Aerosols, corrosive, Packing Group II or III, (each not exceeding 1 L capacity) | 2.2 | UN1950 |  | 2.2, 8 | A34 | 306 | None | None | 75 kg | 150 kg | A | 48, 87, 126
| Aerosols, flammable, (each not exceeding 1 L capacity) | 2.1 | UN1950 |  | 2.1 | N82 | 306 | None | None | 75 kg | 150 kg | A | 48, 87, 126
| Aerosols, flammable, n.o.s. (engine starting fluid) (each not exceeding 1 L capacity) | 2.1 | UN1950 |  | 2.1 | N82 | 306 | 304 | None | Forbidden | 150 kg | A | 48, 87, 126
| Aerosols, non-flammable, (each not exceeding 1 L capacity) | 2.2 | UN1950 |  | 2.2 |  | 306 | None | None | 75 kg | 150 kg |  | 48, 87, 126
| Aerosols, poison, (each not exceeding 1 L capacity) | 2.2 | UN1950 |  | 2.2, 6.1 |  | 306 | None | None | Forbidden | Forbidden | A | 48, 87, 126
* * * * * * *
G | Alkaloids, solid, n.o.s. or Alkaloid salts, solid, n.o.s. poisonous | 6.1 | UN1544 | I | 6.1 | IB7, IP1, T6, TP33 | None | 211 | 242 | 5 kg | 50 kg | A |
|  |  |  | II | 6.1 | IB8, IP2, IP4, T3, TP33 | 153 | 212 | 242 | 25 kg | 100 kg | A |
|  |  |  | III | 6.1 | IB8, IP3, T1, TP33 | 153 | 213 | 240 | 100 kg | 200 kg | A |
* * * * * * *
| Cartridges, safety, see Cartriges for weapons, inert projectile, or Cartridges, small arms or Cartridges, power device (UN 0323) |  |  |  |  |  |  |  |  |  |  |  |
* * * * * * *
| Cartridges, sporting, see Cartridges for weapons, inert porjectile, or Cartridges, small arms |  |  |  |  |  |  |  |  |  |  |  |
* * * * * * *
| Chlorate of potash, see Potassium chlorate |  |  |  |  |  |  |  |  |  |  |  |
* * * * * * *
| Chloroacetophenone, liquid, (CN) | 6.1 | UN3416 | II | 6.1 | A3, IB2, N12, N32, N33, T7, TP2, TP13 | None | 202 | 243 | Forbidden | 60 L | D | 12, 40
| Chloroacetophenone, solid, (CN) | 6.1 | UN1697 | II | 6.1 | A3, IB8, IP2, IP4, N12, N32, N33, N34, T3, TP2, TP13, TP33 | None | 212 | None | Forbidden | 100 kg | D | 12, 40
| Cyclotrimethylenenitramine and octogen, mixtures, wetted or desensitized see RDX and HMX mixtures, wetted or desensitized, etc |  |  |  |  |  |  |  |  |  |  |  |
* * * * * * *
| Etching acid, liquid, n.o.s., see Hydrofluoric acid, etc
* * * * * * *
| Hydrogen iodide solution, see Hydriodic acid |  |  |  |  |  |  |  |  |  |  |  |
* * * * * * *
| Receptacles, small, containing agas (gas cartridges) non-flammable, without release device, not refillable and not exceeding 1 L capacity | 2.2 | UN2037 |  | 2.2, 5.1 | A14 | 306 | 304 | None | 1 kg | 15 kg | B | 40
* * * * * * *
G | Samples, explosive, other than initiating explosives |  | UN0190 | II |  | 113 | None | 62 | None | Forbidden | Forbidden | 14 |
* * * * * * *
| Trinitrochlorobenzene (picryl chloride), wetted, with not less than 10% water by mass | 4.1 | UN3365 | I | 4.1 | 162, A8, A19, N41, N84 | None | 211 | None | 0.5 kg | 0.5 kg | E | 36
* * * * * * *
| [REVISE]
* * * * * * *
| Aluminum alkyl halides, solid | 4.2 | UN3461 | I | 4.2, 4.3 | 173, T21, TP7, TP33 | None | 181 | 244 | Forbidden | Forbidden | D | 134
* * * * * * *
| Ammonium nitrate emulsion or Ammonium nitrate suspension or Ammonium nitrate gel, intermediate for blasting explosives | 5.1 | UN3375 | II | 5.1 | 147, 163 | None | 214 | 214 | Forbidden | Forbidden | D | 48, 59, 60, 66, 124
* * * * * * *
D | Denatured alcohol | 3 | NA1987 | II | 3 | 172, T8 | 150 | 202 | 242 | 5 L | 60 L | B |
|  |  |  | III | 3 | 172, B1, T7 | 150 | 203 | 242 | 60 L | 220 L | A |
* * * * * * *
| Gasoline | 3 | UN1203 | II | 3 | 144, B1, B33, T8 | 150 | 202 | 242 | 5 L | 60 L | E |
* * * * * * *
| Nitrocresols, solid | 6.1 | UN2446 | III | 6.1 | IB8, IP3, T1, TP33 | 153 | 213 | 240 | 100 kg | 200 kg | A |
* * * * * * *
G | Organometallic substance, liquid, water-reactive, flammable | 4.3 | UN3399 | I | 4.3, 3 | T13, TP2, TP7 | None | 201 | 244 | Forbidden | 1 L | E | 40, 52
* * * * * * *
| Radioactive material, Type A package non-special form, non fissile or fissile-excepted | 7 | UN2915 |  | 7 | A56, W7, W8 |  | 415, 418 | 415, 419 |  |  | A | 95, 130
* * * * * * *
+ | Selenium compound, liquid, n.o.s | 6.1 | UN3440 | I | 6.1 | T14, TP2, TP27 | None | 201 | 243 | 1L | 30L | B |
* * * * * * *
+ | Sulfuric acid, fuming with 30 percent or more free sulfur trioxide | 8 | UN1831 | I | 8, 6.1 | 2, B9, B14, B32, B74, B77, B84, N34, T20, TP2, TP12, TP13 | None | 227 | 244 | Forbidden | Forbidden | C | 14, 40
* * * * * * *

* * * * *

42. In § 172.102(c)(1), the following changes are made:

a. Special provision 132 is revised to read as follows; and

b. In Special provision 144, the reference “40 CFR 180.12” is removed and “40 CFR 280.12” is added in its place.

§ 172.102 Special provisions.

* * * * *

(c) * * *

(1) * * *

* * * * *

132. This entry may only be used for uniform, ammonium nitrate based fertilizer mixtures, containing nitrogen, phosphate or potash, meeting the following criteria: (1) Contains not more than 70% ammonium nitrate and not more than 0.4% total combustible, organic material calculated as carbon or (2) Contains not more than 45% ammonium nitrate and unrestricted combustible material.

* * * * *

43. In § 172.102, in paragraph (c)(4), in Table 1.-IB CODES (IBC CODES), in the IB2 entry, under Additional Requirement, the wording “130kPaat” is removed and “130 kPa at” is added in its place.

44. In § 172.203, paragraph (m) is revised to read as follows:

§ 172.203 Additional Description Requirements.

* * * * *

(m) Poisonous Materials. Notwithstanding the hazard class to which a material is assigned, for materials that are poisonous by inhalation (see § 171.8 of this subchapter), the words “Poison-Inhalation Hazard” or “Toxic-Inhalation Hazard” and the words “Zone A”, “Zone B”, “Zone C”, or “Zone D” for gases or “Zone A” or “Zone B” for liquids, as appropriate, shall be entered on the shipping paper immediately following the shipping description. The word “Poison” or “Toxic” need not be repeated if it otherwise appears in the shipping description.

* * * * *

45. In § 172.322, a new paragraph (f) is added to read as follows:

§ 172.322 Marine pollutants.

* * * * *

(f) Exceptions. See § 171.4(c).

PART 173—SHIPPERS—GENERAL REQUIREMENTS FOR SHIPMENTS AND PACKAGINGS

46. The authority citation for part 173 continues to read as follows:

Authority: 49 U.S.C. 5101-5127, 44701; 49 CFR 1.45, 1.53.

PART 173—[NOMENCLATURE CHANGE]

47. In part 173, the acronym “RSPA” is removed and “PHMSA” is added in each of the following places:

a. Section 173.22(c)(2); and

b. Section 173.136(b).

PART 173—[NOMENCLATURE CHANGE]

48. In part 173, “ramcert@rspa.dot.gov” is removed and “ramcert@dot.gov” is added in each of the following places:

a. Section 173.471(d);

b. Section 173.471(e);

c. Section 173.472(f);

d. Section 173.473(a)(1);

e. Section 173.473(a)(2);

f. Section 173.476(c) introductory text; and

g. Section 173.477(c) introductory text.

49. In § 173.3, paragraph (c), the introductory text is revised to read as follows:

§ 173.3 Packaging and exceptions.

* * * * *

(c) Salvage drums. Packages of hazardous materials that are damaged, defective, or leaking; packages found to be not conforming to the requirements of this subchapter after having been placed in transportation; and, hazardous materials that have spilled or leaked may be placed in a metal or plastic removable head salvage drum that is compatible with the lading and shipped for repackaging or disposal under the following conditions:

* * * * *

50. In § 173.4, paragraph (a)(10) is revised to read as follows:

§ 173.4 Small quantity exceptions.

(a) * * *

(10) The shipper certifies conformance with this section by marking the outside of the package with the statement “This package conforms to 49 CFR 173.4.”

* * * * *

§ 173.134 [Amended]

51. In § 173.134, in paragraph (c)(1)(ii), the reference to “29 CFR 1910.103” is removed and “29 CFR 1910.1030” is added in its place.

§ 173.222 [Amended]

52. In § 173.222, in paragraph (c)(2), “0.5 L (0.3 gallons)” is removed and “0.5 L (0.1 gallons)” is added in its place.

§ 173.227 [Amended]

53. In § 173.227, in the section heading, “Division 6.2” is removed and “Division 6.1” is added in its place.

54. In § 173.315, the text of paragraph (a) before the table is revised to read as follows:

§ 173.315 Compressed gases in cargo tanks and portable tanks.

(a) Liquefied compressed gases that are transported in UN portable tanks, DOT specification portable tanks, or cargo tanks must be prepared in accordance with this section, § 173.32, § 173.33 and subpart E or subpart G of part 180 of this subchapter, as applicable. For cryogenic liquid in cargo tanks, see § 173.318. For marking requirements for portable tanks and cargo tanks, see § 172.326 and § 172.328 of this subchapter, as applicable.

(1) UN portable tanks: UN portable tanks must be loaded and offered for transportation in accordance with portable tank provision T50 in § 172.102 of this subchapter.

(2) Cargo tanks and DOT specification portable tanks: Cargo tanks and DOT specification portable tanks must be loaded and offered for transportation in accordance with the following table:

* * * * *

§ 173.403 [Amended]

55. In § 173.403, in the definition for “Radioactive instrument or article,” the wording “such as an instrument such as an instrument” is removed and “such as an instrument” is added in its place.

56. In § 173.418, paragraph (e) is revised to read as follows:

§ 173.418 Authorized packages—oxidizing Class 7 (radioactive) materials.

* * * * *

(e) Pyrophoric Class 7 (radioactive) materials transported by aircraft must be packaged in Type B packages.

57. In § 173.421, paragraph (a)(5) is revised to read as follows:

§ 173.421 Excepted packages for limited quantities of Class 7 (radioactive materials).

(a) * * *

(5) The package does not contain fissile material unless excepted by § 173.453.

* * * * *

§ 173.427 [Amended]

58. In § 173.427, in paragraph (b)(5)(i), “(§§ 179.200, 179.201, 179.202 of this subchapter)” is removed and “(§§ 173.31, and 179.201-1 to 179.201-11 of this subchapter)” is added in its place.

§ 173.465 [Amended]

59. In § 173.465, the following changes are made:

a. In paragraph (c)(1), the wording “Table 12” is removed and “Table 10” is added in its place.

b. In paragraph (c)(1), Table 10, in column one, the heading “Packaging mass” is removed and “Package mass” is added in its place.

§ 173.471 [Amended]

60. In § 173.471, in paragraphs (d) and (e), “DHM-23” is removed and “PHH-23” is added in its place.

PART 176—CARRIAGE BY VESSEL

61. The authority citation for part 176 continues to read as follows:

Authority: 49 U.S.C. 5101-5127; 49 CFR 1.53.

PART 176—[AMENDED]

62. In § 176.144, the text of paragraph (a) before the table and entries E and F of the table are revised to read as follows:

§ 176.144 Segregation of Class 1 (explosive) materials.

(a) Except as provided in § 176.145 of this subchapter, stowage of Class 1 (explosive) materials within the same compartment, magazine, or cargo transport unit is subject to provisions contained in table 176.144(a).

Table 176.144(a).—Authorized Mixed Stowage for Explosives
[An “X” indicates that explosives in the two different compatibility groups reflected by the location of the “X” may not be stowed in the same compartment, magazine, or cargo transport unit]
Compatibility groups | A | B | C | D | E | F | G | H | J | K | L | N | S
* * * * * * *
E | X | X | 6 | 6 |  | X | 1 | X | X | X | X | 4 |
F | X | X | X | X | X |  | X | X | X | X | X | X |
* * * * * * *

* * * * *

§ 176.905 [Amended]

63. In § 176.905, in paragraph (i)(3), the reference “46 CFR 70.10-44” is removed and “46 CFR 70.10-1” is added in its place.

PART 177—CARRIAGE BY PUBLIC HIGHWAY

64. The authority citation for part 177 continues to read as follows:

Authority: 49 U.S.C. 5101-5127; 49 CFR 1.53.

65. In § 177.848, paragraph (c) is revised to read as follows:

§ 177.848 Segregation of Hazardous Materials.

* * * * *

(c) In addition to the provisions of paragraph (d) of this section and except as provided in § 173.12(e) of this subchapter, cyanides, cyanide mixtures or solutions may not be stored, loaded and transported with acids if a mixture of the materials would generate hydrogen cyanide, and Division 4.2 materials may not be stored, loaded and transported with Class 8 liquids.

* * * * *

PART 178—SPECIFICATIONS FOR PACKAGINGS

66. The authority citation for part 178 continues to read as follows:

Authority: 49 U.S.C. 5101-5127; 49 CFR 1.53.

§ 178.245-1 [Amended]

67. In § 178.245-1, in paragraph (e), the section reference “§ 173.300” is removed and “§ 173.115” is added in its place.

§ 178.345-1 [Amended]

68. In § 178.345-1, in paragraph (c), in the definition for “MAWP,” the reference “§ 178.345-1(k)” is removed and “§ 178.320(a)” is added in its place.

69. In § 178.350, paragraph (c) is revised to read as follows:

§ 178.350 Specification 7A; general packaging, Type A.

* * * * *

(c) Each Specification 7A packaging must comply with the marking requirements of § 178.3. In paragraph 178.3(a)(2), the term “packaging manufacturer” means the person certifying that the package meets all requirements of this section.

PART 179—SPECIFICATIONS FOR TANK CARS

70. The authority citation for part 179 continues to read as follows:

Authority: 49 U.S.C. 5101-5127; 49 CFR 1.53.

§ 179.18 [Amended]

71. In § 179.18, in paragraph (c), the acronym “RSPA” is removed and “PHMSA” is added in its place, and the phrase “Research and Special Programs Administration” is removed and “Pipeline and Hazardous Materials Safety Administration” is added in its place.

PART 180—CONTINUING QUALIFICATION AND MAINTENANCE OF PACKAGINGS

72. The authority citation for part 180 continues to read as follows:

Authority: 49 U.S.C. 5101-5127; 49 CFR 1.53.

73. In § 180.352, paragraphs (e) and (f) are revised and a new paragraph (g) is added to read as follows:

§ 180.352 Requirements for retest and inspection of IBCs.

* * * * *

(e) Requirements applicable to routine maintenance of IBCs. Except for routine maintenance of metal, rigid plastics and composite IBCs performed by the owner of the IBC, whose State and name or authorized symbol is durably marked on the IBC, the party performing the routine maintenance shall durably mark the IBC near the manufacturer's UN design type marking to show the following:

(1) The country in which the routine maintenance was carried out; and

(2) The name or authorized symbol of the party performing the routine maintenance.

(f) Retest date. The date of the most recent periodic retest must be marked as provided in § 178.703(b) of this subchapter.

(g) Record retention. The owner or lessee of the IBC must keep records of periodic retests, initial and periodic inspections, and test performed on the IBC if it has been repaired. Records must include design types and packaging specifications, test and inspection dates, name and address of test and inspection facilities, names or name of any persons conducting tests or inspections, and test or inspection specifics and results. Records must be kept for each packaging at each location where periodic tests are conducted, until such tests are successfully performed again or at least 2.5 years from the date of the last test. The owner or lessee must make these records available for inspection by a representative of the Department on request.

§ 180.409 [Amended]

75. In § 180.409, in paragraph (d)(2), the following changes are made:

a. “Research and Special Programs Administration” is removed and “Pipeline and Hazardous Materials Safety Administration” is added in its place.

b. “DHM-32” is removed and “PHH-32” is added in its place.

Issued in Washington, DC, on September 19, 2005, under authority delegated in 49 CFR part 1.
Brigham A. McCown,
Acting Administrator.

[FR Doc. 05-18983 Filed 9-22-05; 8:45 am]

BILLING CODE 4910-60-P